COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds a product and services to the Procurement List that will be furnished by nonprofit agencies employing persons who are blind or have other severe disabilities, and deletes products and a service from the Procurement List previously furnished by such agencies.

DATES: Effective Date: May 25, 2015.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 3/13/2015 (80 FR 13351-13352), the Committee for Purchase From People Who Are Blind or Severely Disabled published notices of proposed additions to the Procurement List.

After consideration of the material presented to it concerning capability of qualified nonprofit agencies to provide the product and services and impact of the additions on the current or most recent contractors, the Committee has determined that the product and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 8501-8506) in connection with the product and services proposed for addition to the Procurement List.

End of Certification

Accordingly, the following product and services are added to the Procurement List:

Product:

Product Name/NSN(s): Padfolio with Pen, Department of State Logo, 8½″ x 11″ 7510-01-NIB-1015

Mandatory Purchase by: Department of State

Mandatory Source of Supply: Industries for the Blind, Inc., West Allis, WI

Contracting Activity: Department of State, DS Office of Acquisition Management, Arlington, VA

Distribution: C-List

Services:

Service Type: Janitorial Service

Service Mandatory For: USDA, Agricultural Research Service Grassland Soil and Water Research Laboratory, 808 East Blackland Road, Temple, TX

Mandatory Source of Supply: Rising Star Resource Development Corporation, Dallas, TX

Contracting Activity: USDA ARS SPA 7MN1, East College Station, TX

Service Type: Mail Service

Service Mandatory For: U.S. Air Force, Dyess Air Force Base, TX

Mandatory Source of Supply: Training, Rehabilitation, & Development Institute, Inc., San Antonio, TX

Contracting Activity: Department of the Air Force, FA4661 7 CONS CD, Dyess AFB, TX

Deletions

On March 20, (80 FR 14973), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products:

Product Name/NSN(s): Bag, Trash, Cloth/2090-01-478-3561

Mandatory Source of Supply: West Texas Lighthouse for the Blind, San Angelo, TX

Contracting Activity: General Services Administration, New York, NY

Product Name/NSN(s): Urinal, Incontinent, 6530-01-081-5303, 6530-01-081-5304, 6530-01-451-8065, 6530-01-451-8066, 6530-01-451-8068, 6530-01-451-8069, 6530-01-451-8070, 6530-01-451-8071, 6530-01-451-8072, 6530-01-451-8073

Mandatory Source of Supply: The Lighthouse for the Blind, St. Louis, MO

Contracting Activity: Department of Veterans Affairs, NAC, Hines, IL

Product Name/NSN(s): Cleaning Compound/7930-01-398-0942

Mandatory Source of Supply: The Lighthouse for the Blind, St. Louis, MO

Contracting Activity: General Services Administration, Fort Worth, TX

Product Name/NSN: Stapler, Spring-powered, Pliers Style 7520-01-598-4239

Mandatory Source of Supply: Winston-Salem Industries for the Blind, Inc., Winston-Salem, NC

Contracting Activity: General Services Administration, New York, NY

Product Name/NSN(s): Ballpoint Pen, Round, Stick Type, “Alpha Basic”, 7520-01-557-3166—Red Ink, 7520-01-557-3163—Red Ink w/Grip

Mandatory Source of Supply: Alphapointe, Kansas City, MO

Contracting Activity: General Services Administration, New York, NY

Product Name/NSN: Highlighter Set, Dry Transfer/7520-01-504-8939

Mandatory Source of Supply: Industries for the Blind, Inc., West Allis, WI

Contracting Activity: General Services Administration, New York, NY

Service:

Service Type: Laundry Service

Service Mandatory For: U.S. Naval Hospital & Naval Dental Clinic Base, Farenholt Road, Agana Heights, GU

Mandatory Source of Supply: ICAN Resources, Inc., Dededo, GU

Contracting Activity: Dept of the Navy, NAVSUP FLT LOG CTR, Pearl Harbor, HI

Barry S. Lineback,
Director, Business Operations.

[FR Doc. 2015-09596 Filed 4-23-15; 8:45 am]

BILLING CODE 6353-01-P